DEPARTMENT OF JUSTICE

Antitrust Division

Notice Pursuant to the National Cooperative Research and Production Act of 1993—Rust Foundation

Notice is hereby given that, on October 3, 2022, pursuant to section 6(a) of the National Cooperative Research and Production Act of 1993, 15 U.S.C. 4301 et seq. (“the Act”), Rust Foundation has filed written notifications simultaneously with the Attorney General and the Federal Trade Commission disclosing changes in its membership. The notifications were filed for the purpose of extending the Act's provisions limiting the recovery of antitrust plaintiffs to actual damages under specified circumstances. Specifically, JFrog Inc, Sunnyvale, CA; Matter Labs, George Town, CAYMAN ISLANDS; and TSY Capital Limited, Central, Hong Kong, HONG KONG SAR, have been added as parties to this venture.

No other changes have been made in either the membership or planned activity of the group research project. Membership in this group research project remains open, and Rust Foundation intends to file additional written notifications disclosing all changes in membership.

On April 14, 2022, Rust Foundation filed its original notification pursuant to section 6(a) of the Act. The Department of Justice published a notice in the Federal Register pursuant to section 6(b) of the Act on May 13, 2022 (87 FR 29384).

The last notification was filed with the Department on July 11, 2022. A notice was published in the Federal Register pursuant to section 6(b) of the Act on August 1, 2022 (87 FR 47006).

Catherine Reilly,
Counsel for Civil Operations, Antitrust Division.

[FR Doc. 2022-24252 Filed 11-7-22; 8:45 am]

BILLING CODE 4410-11-P